DEPARTMENT OF HEALTH AND HUMAN SERVICES

Health Resources and Services Administration

[OMB No. 0906-0066—Extension]

Agency Information Collection Activities: Proposed Collection: Public Comment Request SHIP COVID-19 Testing and Mitigation Program Data Collection

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 28, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information collection request title for reference.

Information Collection Request Title: Small Rural Hospital Improvement Program (SHIP) COVID-19 Testing and Mitigation Program Data Collection OMB No. 0906-0066—Extension.

Abstract: The American Rescue Plan Act of 2021 (Pub. L. 117-2) provided one-time funding for awards that will be carried out under Section 711 of the Social Security Act (42 U.S.C. 912(b)(5)). The SHIP is requesting an extension of an information collection request. State grantees will improve health care in rural areas by using the funding to provide support to eligible rural hospitals to increase COVID-19 testing efforts, expand access to testing in rural communities, and expand the range of mitigation activities.

Need and Proposed Use of the Information: The terms and conditions for this program specify that, “hospitals will be required to report on the number of tests provided and categories in which the funding is spent.” The data will allow HRSA to ensure SHIP COVID-19 recipients are meeting the terms and conditions of their funding, while providing HRSA with information on the effectiveness of funds distributed through this program.

Likely Respondents: The respondents will be hospital staff and designated Representatives, and State Office of Rural Health Staff.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of respondents per respondent | Total responses | Average burden per response (in hours) | Total burden hours
SHIP COVID-19 Testing and Mitigation Data Reporting | 1,540 Number of unique organizations funded through the program | 6 Reported on a quarterly basis during the 18 month program or until the end of the public health emergency (whichever is first) | 9,240 | .25 | 2,310 Total hours spend on responses for all funded organization over a 2-year period.
| 1,540 |  | 9,240 |  | 2,310

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-28268 Filed 12-28-21; 8:45 am]

BILLING CODE 4165-15-P